GENERAL SERVICES ADMINISTRATION

41 CFR Chapter 302

[Notice-MA-2025-01; Docket No. 2024-0002; Sequence No. 50]

Federal Travel Regulation (FTR); Relocation Allowances—Waiver of Certain Federal Travel Regulation (FTR) Provisions Regarding Reimbursement of Relocation Expenses for Residential Realtor Broker Fees or Real Estate Commissions

AGENCY: Office of Government-wide Policy (OGP), General Services Administration (GSA).

ACTION: Notification of GSA Bulletin FTR 25-03.

SUMMARY: GSA Bulletin FTR 25-03 informs Federal agencies that certain provisions of the FTR governing official relocation entitlements for residence transactions are temporarily waived in light of practice changes in the residential real estate industry that affect broker compensation.

DATES: Applicability Date: This notification is effective upon the date of signature and retroactively applies to buyer broker fees/real estate commissions incurred by an employee on and after August 17, 2024, in connection with the purchase of a residence at the new official station incident to their relocation. This bulletin will remain in effect until explicitly canceled or superseded.

FOR FURTHER INFORMATION CONTACT: Mr. Rick Miller at 202-501-3822, or Ms. Jill Denning at 202-208-7642, Office of Government-wide Policy, Office of Asset and Transportation Management, or by email at travelpolicy@gsa.gov. Please cite Notice of GSA Bulletin FTR 25-03.

SUPPLEMENTARY INFORMATION:

Background

Prior to August 17, 2024, the customary practice in residential real estate transactions was for only the seller to pay a broker fee or commission. The seller's agent would then split the fee/commission with the buyer's agent upon sale of the home. As a result of changes to the residential real estate industry that went into effect on August 17, 2024, homebuyers now sign an agreement with their agent specifying the amount or rate of compensation the agent will receive, or how this amount will be determined. While sellers and their agents can still offer to pay a buyer's agent fee/commission, that exchange must be separately bargained for. This means that in some transactions, homebuyers will be required to pay the full buyer's agent fee/commission.

At present, eligible relocating Federal employees are reimbursed for the broker's fee or real estate commission they paid in the sale of their residence at the last official station pursuant to 41 CFR 302-11.200(a). However, 41 CFR 302-11.202(b) prohibits reimbursement for broker fees or commissions paid in connection with the purchase of a home at the new official station. Accordingly, OGP is temporarily waiving language in 41 CFR 302-11.200(a) and 302-11.202(b) to allow agencies to retroactively reimburse eligible relocating employees for buyer broker fees/real estate commissions incurred by an employee on and after August 17, 2024, in connection with the purchase of a residence at the new official station incident to their relocation.

GSA Bulletin FTR 25-03 can be viewed at https://www.gsa.gov/ftrbulletins.

Mehul Parekh,
Acting Associate Administrator, Office of Government-wide Policy.

[FR Doc. 2024-25815 Filed 11-5-24; 8:45 am]

BILLING CODE 6820-14-P